DEPARTMENT OF DEFENSE

Office of the Secretary

[Docket ID DoD-2009-OS-0162]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by January 4, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Community and Family Policy) Office of Communication, Attn: Isabel Hodge, 4000 Defense Pentagon Rm 2E335, Washington, DC 20301-4000 or call at (703) 697-2476.

Title, Associated Form, and OMB Control Number: Exceptional Family Member Program, Family Member Medical Summary Form; DD Form 2792 and Special Education/Early Intervention Summary Form; DD Form 2792-1; OMB Control Number 0704-0411.

Needs and Uses: This information collection requirement is necessary to screen members of military families to determine if they have special medical or educational conditions so that these conditions can be taken into consideration when the Service member is being assigned to a new location with his/her family. The information is used by the personnel system to identify special considerations for future assignments. The DD Form 2792, Family Member Medical Summary, associated with this information collection, will also be used by civilian personnel offices to identify family members of civilian employees who have special needs in order to advise the civilian employee of the availability of service sin the location where they will be potentially employed. Local and state school personnel will complete DD Form 2792-1, Special Education/Early Intervention Summary, for children requiring special educational services. The DD Form 2792 and DD Form 2792-1 is also used by TRICARE Managed Care Support Contractors to support a family member's application for further entitlements, and other Service-specific programs that require registration in the Exceptional Family Member Program.

Affected Public: Individuals or households; State, local or tribal government.

Annual Burden Hours: 15,909.

Number of Respondents: 35,360.

Responses per Respondent: 1.

Average Burden Per Response: 30 minutes.

Frequency: Tri-annually.

SUPPLEMENTARY INFORMATION:

Summary of Information Collection

The Military Departments of the Department of Defense screen all family members prior to a Service member and Federal employee being assigned to an overseas location and to some assignments in the United States. DD Form 2792, Family Member Medical Summary, and/or DD Form 2792-1, Special Education/Early Intervention Summary, will be completed for family members who have been identified with a special medical and/or educational need to document the medical and/or educational needs and service requirements. Their needs will be matched to the resources available at the overseas location to determine the feasibility of receiving appropriate services in that location. The information is used by the Military Service's personnel offices for purposes of assignment only. DD Form 2792 and/or DD 279201 will also be completed for family members of civilian employees to document their special health and/or educational needs in order to advise the civilian employee of the availability of the needed services. The DD Form 2792 and DD Form 2792-1 is also used by TRICARE Managed Care Support Contractors to support a family member's application for further entitlements, and other Service-specific programs that require registration in the Exceptional Family Member Program.

Dated: October 26, 2009.
Patricia L. Toppings,
OSD Federal Register Liaison Officer, Department of Defense.

[FR Doc. E9-26488 Filed 11-3-09; 8:45 am]

BILLING CODE 5001-06-P